ENVIRONMENTAL PROTECTION AGENCY

[Petitions IV-2024-32; FRL-12853-01-R4]

Clean Air Act Operating Permit Program; Order on Petition for Objection to State Operating Permit for Tennessee Valley Authority, Shawnee Fossil Plant (McCracken County, Kentucky)

AGENCY: Environmental Protection Agency (EPA).

ACTION: Notice of final order on petition.

SUMMARY: The Environmental Protection Agency (EPA) Administrator signed an order dated July 10, 2025, denying a petition dated December 20, 2024, from Kentucky Resources Council, National Parks Conservation Association, Sierra Club, and Kentucky Conservation Committee (Petitioners). The petition requested that EPA object to a Clean Air Act (CAA) title V operating permit proposed by the Kentucky Division for Air Quality (KDAQ) to Tennessee Valley Authority, Shawnee Fossil Plant (Shawnee Plant) for its facility located in McCracken County, Kentucky.

FOR FURTHER INFORMATION CONTACT: Art Hofmeister, Air Permits Section, EPA Region 4, (404) 562-9115, hofmeister.art@epa.gov. The final order and petition are available at: https://www.epa.gov/title-v-operating-permits/title-v-petition-database.

SUPPLEMENTARY INFORMATION: EPA received a petition from Petitioners dated December 20, 2024, requesting that EPA object to the issuance of operating permit no. V-23-006, proposed by KDAQ to Shawnee Plant in McCracken County, Kentucky. On July 10, 2025, the EPA Administrator issued an order denying the petition. The order itself explains the basis for EPA's decision. Sections 307(b) and 505(b)(2) of the CAA provide that a petitioner may request review of those portions of an order that deny issues in a petition. Any petition for review shall be filed in the United States Court of Appeals for the appropriate circuit no later than October 27, 2025.

Dated: August 20, 2025.
Kevin McOmber,
Regional Administrator, Region 4.

[FR Doc. 2025-16475 Filed 8-27-25; 8:45 am]

BILLING CODE 6560-50-P